FEDERAL ELECTION COMMISSION

Sunshine Act Meeting

Previously Announced Date and Time: Thursday, September 11, 2003, 10 a.m. Meeting Open to the Public. This Meeting Was Cancelled.

Date and Time: Wednesday, September 17, 2003, 10 a.m.

Place: 999 E Street, NW., Washington, DC (Ninth Floor).

Status: This Hearing will be open to the public.

Matter Before the Commission: LaRouche's Committee for a New Bretton Woods.

Person to Contact for Information: Mr. Ron Harris, Press Officer, Telephone: (202) 694-1220

Mary W. Dove,
Secretary of the Commission.

[FR Doc. 03-23249 Filed 9-9-03; 11:03 am]

BILLING CODE 6715-01-M